DEPARTMENT OF ENERGY

Federal Energy Regulatory Commission

Combined Notice of Filings # 1

April 2, 2009.

Take notice that the Commission received the following electric rate filings:

Docket Numbers: ER08-394-020.

Applicants: Midwest Independent Transmission System Operator, Inc.

Description: Midwest Independent Transmission System Operator, Inc. submits revisions to its Open Access Transmission, Energy and Operating Reserve Markets Tariff to comply with FERC's 2/19/09 Order.

Filed Date: 03/23/2009.

Accession Number: 20090324-0288.

Comment Date: 5 p.m. Eastern Time on Monday, April 13, 2009.

Docket Numbers: ER08-637-008.

Applicants: Midwest Independent Transmission System Operator, Inc.

Description: Midwest Independent Transmission System Operator, Inc. submits Part II Module F to the Open Access Transmission, Energy and Operating Reserve Markets Tariff in compliance with the Commission's 2/19/09 Order.

Filed Date: 03/23/2009.

Accession Number: 20090324-0294.

Comment Date: 5 p.m. Eastern Time on Monday, April 13, 2009.

Docket Numbers: ER09-356-001.

Applicants: ISO New England Inc. and New England Power Pool.

Description: ISO New England Inc and the New England Power Pool submits revisions to Market Rule 1 related to reconfiguration auctions and bilateral contracts in the Forward Capacity Market.

Filed Date: 03/16/2009.

Accession Number: 20090317-0267.

Comment Date: 5 p.m. Eastern Time on Monday, April 13, 2009.

Docket Numbers: ER09-878-000.

Applicants: Entergy Arkansas, Inc.

Description: Entergy Arkansas, Inc submits the 2009 Wholesale Formula Rate Update under ER09-878.

Filed Date: 03/23/2009.

Accession Number: 20090324-0274.

Comment Date: 5 p.m. Eastern Time on Monday, April 13, 2009.

Docket Numbers: ER09-900-000.

Applicants: Victory Garden Phase IV, LLC.

Description: Victory Garden Phase IV, LLC submits authorization to sell energy and capacity at market based rates and workpapers of Julie R Soloman associated with the attached affidavit.

Filed Date: 04/01/2009.

Accession Number: 20090402-0170.

Comment Date: 5 p.m. Eastern Time on Wednesday, April 22, 2009.

Docket Numbers: ER09-901-000.

Applicants: Sky River LLC.

Description: Sky River LLC submits authorization to sell energy and capacity at market based rates and workpapers of Julie R. Soloman associated with the attached affidavit.

Filed Date: 04/01/2009.

Accession Number: 20090402-0171.

Comment Date: 5 p.m. Eastern Time on Wednesday, April 22, 2009.

Docket Numbers: ER09-902-000.

Applicants: FPL Energy Cabazon Wind, LLC.

Description: FPL Energy Cabazon Wind LLC submits authorization to sell energy and capacity at market based rates and workpapers of Julie R Soloman associated with the attached affidavit.

Filed Date: 04/01/2009.

Accession Number: 20090402-0172.

Comment Date: 5 p.m. Eastern Time on Wednesday, April 22, 2009.

Docket Numbers: ER09-903-000; ER09-904-000.

Applicants: PPL New Jersey Solar, LLC; PPL New Jersey Biogas, LLC.

Description: PPL New Jersey Biogas, LLC et al. submits Application to Sell Electric Energy, Capacity and Ancillary Services under ER09-904 et al.

Filed Date: 03/31/2009.

Accession Number: 20090401-0090.

Comment Date: 5 p.m. Eastern Time on Tuesday, April 21, 2009.

Docket Numbers: ER09-924-000.

Applicants: New England Power Pool.

Description: The New England Power Pool (“NEPOOL”) Participants Committee submits member applications and termination of memberships for Consolidated Hydro New Hampshire, Inc. et al.

Filed Date: 03/31/2009.

Accession Number: 20090401-0097.

Comment Date: 5 p.m. Eastern Time on Tuesday, April 21, 2009.

Docket Numbers: ER09-925-000.

Applicants: Entergy Services, Inc.

Description: Entergy Services, Inc et al. submits a mutually-executed Dynamic Transfer Operating Agreement.

Filed Date: 03/31/2009.

Accession Number: 20090401-0096

Comment Date: 5 p.m. Eastern Time on Tuesday, April 21, 2009.

Docket Numbers: ER09-926-000.

Applicants: Powerex Corp.

Description: Powerex Corp. submits a new rate schedule, designated as Original Rate Schedule 5m which authorize the sale, et al.

Filed Date: 03/31/2009.

Accession Number: 20090401-0094

Comment Date: 5 p.m. Eastern Time on Tuesday, April 21, 2009.

Docket Numbers: ER09-927-000.

Applicants: Allegheny Energy Supply Company, LLC.

Description: Allegheny Energy Supply Co, LLC submits Notices of Termination of Power Sales Agreements.

Filed Date: 03/31/2009.

Accession Number: 20090401-0095.

Comment Date: 5 p.m. Eastern Time on Tuesday, April 21, 2009.

Docket Numbers: ER09-928-000.

Applicants: Southwest Power Pool, Inc.

Description: Southwest Power Pool, Inc. submits Original Service Agreement 1764 to FERC Electric Tariff, Firth Revised Volume 1.

Filed Date: 03/31/2009.

Accession Number: 20090401-0093.

Comment Date: 5 p.m. Eastern Time on Tuesday, April 21, 2009.

Docket Numbers: ER09-929-000.

Applicants: Entergy Services, Inc.

Description: Entergy Operating Companies and Louisiana Generating, LLC submits Fourth Revised Network Integration Transmission Service Agreement.

Filed Date: 03/31/2009.

Accession Number: 20090401-0092.

Comment Date: 5 p.m. Eastern Time on Tuesday, April 21, 2009.

Docket Numbers: ER09-930-000.

Applicants: Entergy Services, Inc.

Description: Entergy Arkansas, Inc submits Fortieth Amendment to the Power Coordination, Interchange and Transmission Service Agreement et al.

Filed Date: 03/31/2009.

Accession Number: 20090401-0091.

Comment Date: 5 p.m. Eastern Time on Tuesday, April 21, 2009.

Docket Numbers: ER09-937-000.

Applicants: Commonwealth Edison Company.

Description: Commonwealth Edison submits updated stated depreciation rate and PBOP expense inputs into Formula Rate.

Filed Date: 04/01/2009.

Accession Number: 20090402-0174.

Comment Date: 5 p.m. Eastern Time on Wednesday, April 22, 2009.

Docket Numbers: ER09-938-000.

Applicants: Central Maine Power Company.

Description: Central Maine Power Company submits proposed revisions to the regional and local formula rates contained in Attachment F and Schedule 21-CMP of Section II of the ISO New England Inc., etc.

Filed Date: 04/01/2009.

Accession Number: 20090402-0173.

Comment Date: 5 p.m. Eastern Time on Wednesday, April 22, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-8260 Filed 4-10-09; 8:45 am]

BILLING CODE 6717-01-P